DEPARTMENT OF HEALTH AND HUMAN SERVICES

Centers for Disease Control and Prevention

[Program Announcement 00083]

National Trauma Information and Exchange Program; Notice of Availability of Funds

A. Purpose

The Centers for Disease Control and Prevention (CDC) announces the availability of funds in Fiscal Year (FY) 2000 for a grant to develop a National Trauma Information and Exchange Program (TIEP).

The purpose of TIEP is to make data and information on trauma care in the United States more accessible to a broad spectrum of individuals and organizations, including trauma care professionals and professional associations, trauma centers and other acute care hospitals, trauma care systems, emergency medical services (EMS) systems, injury researchers and research organizations, public health agencies, health care payers, and the general public. CDC is committed to achieving the health promotion and disease prevention objectives of “Healthy People 2010.”

This announcement is related to Injury and Violence Prevention focus areas.

B. Eligible Applicants

Applications may be submitted by public and private nonprofit organizations and by governments and their agencies; that is, universities, colleges, research institutions, hospitals, other public and private nonprofit organizations, State and local governments or their bona fide agents, and Federally recognized Indian tribal governments, Indian tribes, or Indian tribal organizations.

C. Availability of Funds

Approximately $387,500 is available in FY 2000 to fund one new award. It is expected that the award will begin on or about September 30, 2000, and will be made for a 12-month budget period within a project period of up to 3 years. Funding estimates may change.

Continuation awards within an approved project period will be made on the basis of satisfactory progress as evidenced by required reports and the availability of funds.

D. Program Requirements

In conducting the activities to achieve the purpose of this program, the recipient will be responsible for the following activities:

1. Provide a full-time director/coordinator with authority and responsibility to carry-out the requirements of the program.

2. Provide qualified staff, other resources, and knowledge to implement the components of the program.

3. Develop and implement a comprehensive plan to periodically update a detailed description of trauma centers in the United States, including key personnel, as well as their capabilities.

4. Develop and implement a plan that enables an exchange of information among trauma centers and trauma organizations nationwide.

5. Develop and implement a plan for a uniform surveillance system for trauma centers that will enable researchers and research organizations to conduct research on quality of trauma care and trauma center and trauma system effectiveness.

6. Develop and implement a plan for the dissemination of available information on trauma, trauma centers, and trauma care systems to the public, researchers and healthcare practitioners.

E. Application Content

Use the information in the Program Requirement, Other Requirements, and Evaluation Criteria sections to develop the application content. Your application will be evaluated on the criteria listed, so it is important to follow them in laying out your program plan. The narrative should be no more than 30 pages double-spaced, printed on one side, with one inch margins, and unreduced font. The application must include a one-page abstract and summary of the proposed effort.

F. Submission and Deadline

Application

Submit the original and two copies of PHS 5161-1 (OMB Number 0937-0189).

Forms are in the application kit. On or before July 14, 2000, submit the application to the Grants Management Specialist identified in the “Where To Obtain Additional Information” section of this announcement.

Deadline

Applications shall be considered as meeting the deadline if they are either:

(a) Received on or before the deadline date; or (b) Sent on or before the deadline date and received in time for an independent review. (Applicants must request a legibly dated U.S. Postal Service postmark or obtain a legibly dated receipt from a commercial carrier or U.S. Postal Service. Private metered postmarks shall not be acceptable as proof of timely mailing).

Late Applications

Applications which do not meet the criteria in (a) or (b) above are considered late applications, will not be considered, and will be returned to the applicant.

G. Evaluation Criteria

Each application will be evaluated individually against the following criteria by an independent review group appointed by CDC.

1. Background and Need (40 percent)

The extent to which the applicant describes the background and need for a comprehensive trauma information program including; development, current challenges in organizing and delivering trauma care, challenges of developing and maintaining trauma systems, implementation and evaluation of a plan to periodically update a detailed description of trauma centers in the United States, development of a plan to exchange information and link resources of trauma centers and a plan for a uniform surveillance program.

2. Methods (30 percent)

The extent to which the applicant provides a detailed description of all proposed activities required to implement a comprehensive trauma information and exchange program including letters of support and collaboration needed to achieve each objective and the overall program goal(s). The extent to which the applicant provides a reasonable, logically sequenced and complete schedule for implementing all activities. The extent to which position descriptions, lines of command, and collaborations are appropriate to accomplishing the program goal(s) and objectives. The extent to which the applicant describes a plan and implementation dissemination of available trauma information.

3. Evaluation (10 percent)

The extent to which the proposed evaluation plan is detailed and capable of documenting program process and outcome measures. The extent to which the applicant demonstrates staff and/or collaborator availability, expertise, and capacity to perform the evaluation.

4. Staff and Resources (20 percent)

The extent to which the applicant can provide adequate facilities, staff and/or collaborators, including a full-time coordinator and resources to accomplish the proposed goal(s)and objectives during the project period. The extent to which the applicant demonstrates staff and/or collaborator availability, expertise, previous experience, and capacity to perform the undertaking successfully.

5. Budget and Justification (not scored)

The extent to which the applicant provides a detailed budget and narrative justification consistent with the stated objectives and planned program activities. CDC may not approve or fund all proposed activities. The applicant should be precise about the program purpose of each budget item. Proposed contracts should identify the name of the contractor, if known; describe the services to be performed; provide an itemized budget and justification for the estimated costs of the contract; specify the period of performance, and method of selection.

H. Other Requirements

Technical Reporting Requirements

Provide CDC with original plus two copies of:

1. Semi-annual progress reports;

2. Financial status report, no more than 90 days after the end of the budget period; and

3. Final financial status and performance reports, no more than 90 days after the end of the project period. Send all reports to the Grants Management Specialist identified in the “Where To Obtain Additional Information” Section of this announcement.

The following additional requirements are applicable to this program. For a complete description of each, see Attachment

I. (List all applicable requirements by number and title. The Grants Management Branch will include the applicable descriptions in the application kit.)

AR-10 Smoke-Free Workplace Requirements

AR-11 Healthy People 2010

AR-12 Lobbying Restrictions

AR-13 Prohibition on Use of CDC Funds for Certain Gun Control Activities

AR-14 Accounting System Requirements

AR-15 Proof of Non-Profit Status

I. Authority and Catalog of Federal Domestic Assistance Number

This program is authorized under section 301(a), 317(k)(2), 391, 392, 394, and 394A (42 U.S.C. 241(a), 247b(k)(2), 280b, 280b-1, 280b-2, 280b-3) of the Public Health Service Act, as amended. The Catalog of Federal Domestic Assistance number is 93.136.

J. Where to Obtain Additional Information

See the CDC home page on the Internet: http://www.cdc.gov for this and other program announcements, click on funding.

To receive additional written information and to request an application kit, call 1-888-GRANTS4 (1-888-472-6874). You will be asked to leave your name and address and will be instructed to identify the announcement number of interest. Please refer to Program Announcement 00083 when you request information. After reviewing the Program Announcement for business management assistance contact: Sheryl Heard, Grants Management Specialist, Grants Management Branch, Procurement and Grants Office, Announcement 00083, Centers for Disease Control and Prevention (CDC), 2920 Brandywine Road, Suite 3000, Atlanta, GA, 30341-4146, Telephone (770) 488-2723, Email address: Sheard@cdc.gov

For program technical assistance contact: Paul Burlack Centers for Disease Control and Prevention (CDC), National Center for Injury Prevention and Control, 4770 Buford Highway NE, Mailstop F-41, Atlanta, GA, 30341-3724, Telephone (770) 488-4031, Email address: pburlack@cdc.gov.

Dated: May 9, 2000.
John L. Williams,
Director, Procurement and Grants Office, Centers for Disease Control and Prevention (CDC).

[FR Doc. 00-12107 Filed 5-12-00; 8:45 am]

BILLING CODE 4163-18-P